Proclamation 8030 of June 6, 2006

Father's Day, 2006

By the President of the United States of America

A Proclamation

By offering guidance, support, and unconditional love, a father is one of the most important influences in a child's life. On Father's Day, we honor our fathers and celebrate the special bond between a father and a child.

Fathers play a significant role in shaping the character of their children and the future of our country. By spending time with their sons and daughters and listening to their experiences, fathers can have a profound impact on their children's lives. As advisors, role models, and friends, fathers help their children to understand the difference between right and wrong and to recognize how the decisions they make today can affect the rest of their lives. Fathers instill important values and prepare young people for the challenges and opportunities ahead. Through their daily sacrifices, fathers provide a loving and secure home in which their children can grow to become successful adults and good citizens. Their love and dedication inspire the next generation of Americans to achieve their dreams and demonstrate the true spirit of our Nation.

Father's Day also gives us an opportunity to remember the fathers who are currently serving in our Armed Forces. Our Nation is grateful for the courage and sacrifice of the many proud fathers wearing our country's uniform. By advancing freedom and protecting our way of life, these brave individuals are helping to lay the foundation of peace for our children and grandchildren.

NOW, THEREFORE, I, GEORGE W. BUSH, President of the United States of America, in accordance with a joint resolution of the Congress approved April 24, 1972, as amended (36 U.S.C. 109), do hereby proclaim June 18, 2006, as Father's Day. I encourage all Americans to express admiration and appreciation to fathers for their many contributions to our Nation's children. I direct the appropriate officials of the Government to display the flag of the United States on all Government buildings on this day. I also call upon State and local governments and citizens to observe this day with appropriate programs, ceremonies, and activities.

IN WITNESS WHEREOF, I have hereunto set my hand this sixth day of June, in the year of our Lord two thousand six, and of the Independence of the United States of America the two hundred and thirtieth.

B

[FR Doc. 06-5323

Filed 6-8-06; 8:47 am]

Billing code 3195-01-P